DEPARTMENT OF TRANSPORTATION

Federal Aviation Administration

[Summary Notice No. SAB-2020-02]

Petition for Exemption; Summary of Petition Received; Viking Air Limited

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before November 25, 2020.

ADDRESSES: Send comments identified by docket number FAA-2017-1016 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Paul Pellicano, AIR-691, Federal Aviation Administration, Policy and Innovation Division, Small Airplane Standards Branch, Aircraft Certification Service, 901 Locust, Room 301, Kansas City, MO 64106, email paul.pellicano@faa.gov.

This notice is published pursuant to 14 CFR 11.85.

Issued in Kansas City, MO, on October 30, 2020.
Patrick R. Mullen,
Manager, Small Airplane Standards Branch, Policy and Innovation Division, Aircraft Certification Service.

Petition for Exemption

Docket No.: FAA-2017-1016.

Petitioner: Viking Air Limited.

Section(s) of 14 CFR Affected: Special Federal Aviation Regulation Number 23-1.

Description of Relief Sought: Viking Air Limited (VAL) is seeking a 24-month extension to Exemption No. 17626 that exempts VAL, for a limited time, from installing autopilot low-speed awareness on certain DHC-6-400 airplanes. VAL states technical and logistical challenges, including increased safety concerns and travel restrictions, in connection with the novel coronavirus disease 2019 (COVID-19), have delayed design and approval of the low-speed awareness system.

[FR Doc. 2020-24494 Filed 11-4-20; 8:45 am]

BILLING CODE 4910-13-P